MERIT SYSTEMS PROTECTION BOARD

5 CFR Part 7401

RIN 3209-AA15

Supplemental Standards of Ethical Conduct for Employees of the Merit Systems Protection Board

AGENCY: Merit Systems Protection Board (MSPB).

ACTION: Final rule.

SUMMARY: The Merit Systems Protection Board, with the concurrence of the Office of Government Ethics (OGE), is adopting as final, without change, the interim MSPB rule that supplements the executive-branch-wide Standards of Ethical Conduct (Standards) issued by OGE and, with certain exceptions, requires MSPB employees to obtain approval before engaging in outside employment.

DATES: This final rule is effective April 8, 2008.

FOR FURTHER INFORMATION CONTACT: B. Chad Bungard, General Counsel, Merit Systems Protection Board, fax: (202) 653-6203; e-mail: mspb@mspb.gov.

SUPPLEMENTARY INFORMATION: The MSPB published, with OGE concurrence, an interim rule at 72 FR 26533, on May 10, 2007, governing the conduct of MSPB employees and requested comments. No comments were received. The MSPB has determined, with OGE concurrence, to adopt the interim rule as final without change. The interim rule being adopted as final provides that an MSPB employee, other than a special Government employee, must obtain approval before engaging in outside employment. The rule defines outside employment and sets out the procedures for seeking approval. The rule also provides that the Designated Agency Ethics Official (DAEO) or alternate DAEO may exempt certain categories of employment from the prior approval requirement.

For a detailed section analysis of this final rule, see the preamble of the interim rule as published at 72 FR 26533.

Regulatory Flexibility Act

The MSPB has determined, pursuant to the Regulatory Flexibility Act, 5 U.S.C. chapter 6, that this rulemaking will not have a significant economic impact on a substantial number of small entities because it primarily affects MSPB employees.

Paperwork Reduction Act

The Paperwork Reduction Act, 44 U.S.C. chapter 35, does not apply because this rulemaking does not contain information collection requirements subject to the approval of the Office of Management and Budget.

Congressional Review Act

The Merit Systems Protection Board has determined that this rule is not a rule as defined in 5 U.S.C. 804, and thus, does not require review by Congress.

List of Subjects in 5 CFR Part 7401

Conflict of interests, Government employees.

Authority and Issuance

Accordingly, the Merit Systems Protection Board, with the concurrence of the Office of Government Ethics, is adopting the interim rule adding 5 CFR chapter LXIV, consisting of part 7401, which was published at 72 FR 26533 on May 10, 2007, as a final rule without change.

Dated: March 19, 2008.
Neil A.G. McPhie,
Chairman, Merit Systems Protection Board.
Approved: March 31,2008.
Robert I. Cusick,
Director, Office of Government Ethics.

[FR Doc. E8-7324 Filed 4-7-08; 8:45 am]

BILLING CODE 7400-01-P